DEPARTMENT OF ENERGY

Federal Energy Regulatory Commission

Combined Notice of Filings #1

Take notice that the Commission received the following electric corporate filings:

Docket Numbers: EC24-65-000.

Applicants: Rockland Capital.

Description: Application for Authorization Under Section 203 of the Federal Power Act of Eagle Point Power Generation LLC.

Filed Date: 3/29/24.

Accession Number: 20240329-5501.

Comment Date: 5 p.m. ET 4/19/24.

Take notice that the Commission received the following exempt wholesale generator filings:

Docket Numbers: EG24-157-000.

Applicants: AES Westwing II ES, LLC.

Description: AES Westwing II ES, LLC submits Notice of Self-Certification of Exempt Wholesale Generator Status.

Filed Date: 4/2/24.

Accession Number: 20240402-5030.

Comment Date: 5 p.m. ET 4/23/24.

Docket Numbers: EG24-158-000.

Applicants: AES ES Alamitos 2, LLC.

Description: AES ES Alamitos 2, LLC submits Notice of Self-Certification of Exempt Wholesale Generator Status.

Filed Date: 4/2/24.

Accession Number: 20240402-5033.

Comment Date: 5 p.m. ET 4/23/24.

Take notice that the Commission received the following electric rate filings:

Docket Numbers: ER24-201-001.

Applicants: Karbone Energy LLC.

Description: Compliance filing: Karbone Energy Amended Tariff Filing to be effective 11/1/2023.

Filed Date: 4/2/24.

Accession Number: 20240402-5181.

Comment Date: 5 p.m. ET 4/23/24.

Docket Numbers: ER24-1183-000.

Applicants: Fanfare Energy, LLC.

Description: Supplement to February 2, 2024 Fanfare Energy, LLC tariff filing.

Filed Date: 3/29/24.

Accession Number: 20240329-5496.

Comment Date: 5 p.m. ET 4/19/24.

Docket Numbers: ER24-1469-001.

Applicants: PJM Interconnection, L.L.C.

Description: Tariff Amendment: Amendment to 4Q 2023 Membership re: Metadata Correction to be effective 12/31/2023.

Filed Date: 4/2/24.

Accession Number: 20240402-5023.

Comment Date: 5 p.m. ET 4/23/24.

Docket Numbers: ER24-1679-000.

Applicants: Eden Solar LLC.

Description: Baseline eTariff Filing: Eden Solar, LLC MBR Tariff to be effective 4/2/2024.

Filed Date: 4/1/24.

Accession Number: 20240401-5573.

Comment Date: 5 p.m. ET 4/22/24.

Docket Numbers: ER24-1680-000.

Applicants: Public Service Company of New Mexico.

Description: 205(d) Rate Filing: Subentity Reserve Sharing Agreement to be effective 4/1/2024.

Filed Date: 4/1/24.

Accession Number: 20240401-5589.

Comment Date: 5 p.m. ET 4/22/24.

Docket Numbers: ER24-1681-000.

Applicants: PJM Interconnection, L.L.C.

Description: Tariff Amendment: Notice of Cancellation of WMPA, SA No. 5826; AF2-215 re: Withdrawal to be effective 6/3/2024.

Filed Date: 4/2/24.

Accession Number: 20240402-5109.

Comment Date: 5 p.m. ET 4/23/24.

Take notice that the Commission received the following electric securities filings:

Docket Numbers: ES24-29-000.

Applicants: Southern Indiana Gas and Electric Company, d/b/a CenterPoint Energy Indiana South CenterPoint Energy.

Description: Application Under Section 204 of the Federal Power Act for Authorization to Issue Securities of Southern Indiana Gas and Electric Company, Inc.

Filed Date: 3/29/24.

Accession Number: 20240329-5500.

Comment Date: 5 p.m. ET 4/19/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 2, 2024.
Debbie-Anne A. Reese,
Acting Secretary.

[FR Doc. 2024-07420 Filed 4-5-24; 8:45 am]

BILLING CODE 6717-01-P